DEPARTMENT OF STATE

[Public Notice: 7380]

60-Day Notice of Proposed Information Collection: Bureau of Educational and Cultural Affairs, Office of Policy and Evaluation, Evaluation Division: Sports & Culture Evaluation Envoys Survey, OMB Control Number 1405-xxxx

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Bureau of Educational and Cultural Affairs, Office of Policy and Evaluation, Evaluation Division: Sports & Culture Evaluation Envoys Survey

• OMB Control Number: None

• Type of Request: New Collection

• Originating Office: Bureau of Educational and Cultural Affairs, Office of Policy and Evaluation, Evaluation Division (ECA/P/V)

• Form Number: Survey numbers (SV-yyyy-####) will be generated as needed

• Respondents: Envoy participants of the Sports Envoys Program conducted by ECA from 2005 through 2009.

• Estimated Number of Respondents: 28 annually

• Estimated Number of Responses: 28 annually

• Average Hours per Response: 20 minutes

• Total Estimated Burden: 9 hours annually

• Frequency: On occasion

• Obligation to Respond: Voluntary

DATES: The Department will accept comments from the public up to 60 days from March 22, 2011.

ADDRESSES: You may submit comments by any of the following methods:

• E-mail: HaleMJ2@state.gov.

• Mail (paper, disk, or CD-ROM submissions): ECA/P/V, SA-5, C2 Floor, Department of State, Washington, DC 20522-0505

• Fax: 202-632-6320

• Hand Delivery or Courier: ECA/P/V, SA-5, C2 Floor, Department of State, 2200 C Street, NW., Washington, DC 20037.

You must include the DS form number (if applicable), information collection title, and OMB control number in any correspondence.

FOR FURTHER INFORMATION CONTACT: Direct requests for additional information regarding the collection listed in this notice, including requests for copies of the proposed information collection and supporting documents, to Michelle Hale, ECA/P/V, SA-5, C2 Floor, Department of State, Washington, DC 20522-0582, who may be reached on 202-632-6312 or at HaleMJ2@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection:

To meet OMB and Congressional reporting requirements, this request for a new information collection clearance will allow ECA/P/V as part of their larger Sports and Culture Evaluation to conduct a survey of the envoys who participated in the Sports Envoys Program. Collecting this data will help ECA/P/V assess and measure the program's effectiveness and impact, as well as provide valuable feedback on the program from these participants' perspective. The respondents will be envoys that participated in the Sports Envoys Program between the years of 2005 and 2009.

Methodology:

Evaluation data will be entirely collected through an electronic survey conducted via Zoomerang, an on-line surveying tool.

Dated: March 4, 2011.
Julianne Paunescu,
Acting Director of the Office of Policy and Evaluation, Bureau of Educational and Cultural Affairs, Department of State.

[FR Doc. 2011-6725 Filed 3-21-11; 8:45 am]

BILLING CODE 4710-05-P